DEPARTMENT OF JUSTICE

Drug Enforcement Administration

[Docket No. 10-60]

Robert G. Crummie, M.D.; Decision and Order

On July 9, 2010, Administrative Law Judge (ALJ) Timothy D. Wing, issued the attached recommended decision. The Respondent did not file exceptions to the decision.

Having reviewed the record in its entirety including the ALJ's recommended decision, I have decided to adopt the ALJ's rulings, findings of fact, conclusions of law, and recommended Order.

Order

Pursuant to the authority vested in me by 21 U.S.C. 823(f) and 824(a), as well as 28 CFR 0.100(b) and 0.104, I order that DEA Certificate of Registration, BC2964965, issued to Robert G. Crummie, M.D., be, and it hereby is, revoked. I further order that any pending application of Robert G. Crummie, M.D., to renew or modify his registration, be, and it hereby is, denied. This Order is effective immediately.¹

¹ Based on the findings of the North Carolina Medical Board, which led it to impose an indefinite suspension of Respondent's state medical license, I conclude that the public interest requires that this Order be made effective immediately. See 21 CFR 1316.67.

Dated: November 8, 2011.
Michele M. Leonhart,
Administrator.

Christine Menendez, Esq., for the Government.

Ryan G. Cason Crummie, Esq., for the Respondent.

Opinion and Recommended Decision of the Administrative Law Judge

Timothy D. Wing, Administrative Law Judge. This proceeding is an adjudication governed by the Administrative Procedure Act, 5 U.S.C. 551 et seq., to determine whether Respondent's Certificate of Registration with the Drug Enforcement Administration (DEA) should be revoked and any pending applications for renewal or modification of that registration denied. Without this registration, Respondent, Robert G. Crummie, M.D., would be unable to lawfully possess, prescribe, dispense, or otherwise handle controlled substances.

On May 27, 2010, the Deputy Assistant Administrator, Office of Diversion Control, DEA, issued an Order to Show Cause why the DEA should not revoke Respondent's DEA Certificate of Registration, BC2964965, on the ground that Respondent lacked authority to handle controlled substances in North Carolina, the state in which he maintained his DEA registration. Respondent, through counsel, timely requested a hearing on the issues raised in the Order to Show Cause.

The Government subsequently filed a Motion for Summary Disposition, asserting that on March 17, 2010, the North Carolina Medical Board indefinitely suspended Respondent's medical license, effective April 2, 2010, and that Respondent consequently did not have authority to possess, dispense or otherwise handle controlled substances in North Carolina, the jurisdiction in which he maintained his DEA registration. The Government contended that such state authority is a necessary condition for DEA registration and therefore asked that I grant the Government's motion for summary disposition and recommend to the Deputy Administrator that Respondent's registration be revoked and any pending application for renewal or modification of such registration be denied. Counsel for the Government attached to the motion two supporting documents: (1) An Affidavit of Stephanie A. Evans, DEA Diversion Investigator, affirming that she had confirmed with the North Carolina Medical Board that Respondent's medical license had not been reinstated as of July 9, 2010 and (2) a copy of the North Carolina Medical Board's Findings of Fact, Conclusions of Law and Order of Discipline regarding Respondent, indicating that Respondent's North Carolina medical license was suspended indefinitely, beginning April 2, 2010.

On July 14, 2010, I issued an order directing Respondent to reply to the Government's motion no later than July 20, 2010. On July 20, 2010, Respondent filed a Motion for Enlargement of Time to respond to the Government's motion, requesting an extension of time until August 20, 2010, on the grounds that counsel for Respondent needed “additional time to consult with [Respondent] and prepare a response to the Government's motion.” I afforded Respondent an extension of time until July 29, 2010, to reply to the Government's motion. To date, Respondent has failed to file a response to the Government's motion or to request an additional extension of time.

Discussion

Loss of state authority to engage in the practice of medicine and to handle controlled substances is grounds to revoke a practitioner's registration under 21 U.S.C. 824(a)(3). Accordingly, this agency has consistently held that a person may not hold a DEA registration if he is without appropriate authority under the laws of the state in which he does business. See Scott Sandarg, D.M.D., 74 FR 17528 (DEA 2009); David W. Wang, M.D., 72 FR 54297 (DEA 2007); Sheran Arden Yeates, M.D., 71 FR 39130 (DEA 2006); Dominick A. Ricci, M.D., 58 FR 51104 (DEA 1993); Bobby Watts M.D., 53 FR 11919 (DEA 1988). In the instant case, the Government asserts, and Respondent does not deny, that Respondent's North Carolina medical license is indefinitely suspended.

Summary disposition is warranted if the period of suspension is temporary, or if there is the potential for reinstatement of state authority because “revocation is also appropriate when a state license had been suspended, but with the possibility of future reinstatement.” Stuart A. Bergman, M.D., 70 FR 33193 (DEA 2005); Roger A. Rodriguez, M.D., 70 FR 33206 (DEA 2005).

It is well-settled that when no question of fact is involved, or when the material facts are agreed upon, a plenary, adversarial administrative proceeding is not required, under the rationale that Congress does not intend administrative agencies to perform meaningless tasks. See Layfe Robert Anthony, M.D., 67 FR 35582 (DEA 2002); Michael G. Dolin, M.D., 65 FR 5661 (DEA 2000). See also Philip E. Kirk, M.D., 48 FR 32887 (DEA 1983), aff'd sub nom. Kirk v. Mullen, 749 F.2d 297 (6th Cir. 1984); Puerto Rico Aqueduct and Sewer Auth. v. EPA, 35 F.3d 600, 605 (1st Cir. 1994).

As noted above, there remain no material disputed facts. The Government asserted with uncontroverted evidence that Respondent is without state authority to handle controlled substances in North Carolina at the present time. In these circumstances, I conclude that further delay in ruling on the Government's motion for summary disposition is not warranted. I therefore find that the motion for summary disposition is properly entertained and granted.

Further, inasmuch as Respondent has failed to respond to the directives issued in this proceeding, and has not shown good cause for such failure, I also find that Respondent has waived his right to a hearing under 21 CFR 1301.43(d).

Recommended Decision

I grant the Government's Motion for Summary Disposition and recommend that Respondent's DEA registration be revoked and any pending applications denied.

Dated: July 30, 2010.
Timothy D. Wing,
Administrative Law Judge.

[FR Doc. 2011-29721 Filed 11-16-11; 8:45 am]

BILLING CODE 4410-09-P